DEPARTMENT OF JUSTICE

Antitrust Division

Notice Pursuant to the National Cooperative Research and Production Act of 1993—Pistoia Alliance, Inc.

Notice is hereby given that, on February 6, 2020, pursuant to Section 6(a) of the National Cooperative Research and Production Act of 1993, 15 U.S.C. Section 4301 seq. (the “Act”), Pistoia Alliance, Inc. filed written notifications simultaneously with the Attorney General and the Federal Trade Commission disclosing changes in its membership. The notifications were filed for the purpose of extending the Act's provisions limiting the recovery of antitrust plaintiffs to actual damages under specified circumstances. Specifically, Molecule One sp.z 0.0., Warszawa, POLAND; Innoplexus AG, Eschborn, GERMANY; Tom Flores (individual member), Cambridgeshire, UNITED KINGDOM; Vyasa Analytics, Newburyport, MA; Ataxia UK, London, UNITED KINGDOM; The Institute of Cancer Research, Sutton, UNITED KINGDOM; Glyn Williams (individual member), Guildford, UNITED KINGDOM; CSL Behring, Parkville, AUSTRALIA; and John Conway (individual member), Hereford, PA have been added as parties to this venture. Also, grit42, Copenhagen, DENMARK has withdrawn as a party to this venture.

No other changes have been made in either the membership or planned activity of the group research project. Membership in this group research project remains open, and Pistoia Alliance, Inc. intends to file additional written notifications disclosing all changes in membership.

On May 28, 2009, Pistoia Alliance, Inc. filed its original notification pursuant to Section 6(a) of the Act. The Department of Justice published a notice in the Federal Register pursuant to Section 6(b) of the Act on July 15, 2009 (74 FR 34364).

The last notification was filed with the Department on November 29, 2019. A notice was published in the Federal Register pursuant to Section 6(b) of the Act on January 9, 2020 (85 FR 1183).

Suzanne Morris,
Chief, Premerger and Division Statistics Unit, Antitrust Division.

[FR Doc. 2020-03973 Filed 2-26-20; 8:45 am]

BILLING CODE 4410-11-P